DEPARTMENT OF COMMERCE

National Oceanic and Atmospheric Administration

[I.D. 092502G]

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Plan Development Team (HMSPDT) and Highly Migratory Species Advisory Subpanel (HMSAS) will hold a work session, which is open to the public.

DATES: The HMSPDT and HMSAS will meet Tuesday, October 22, 2002 from 9 a.m. until 5 p.m.; and Wednesday, October 23, 2002 from 9 a.m. until business for the day is completed.

ADDRESSES: The work session will be held at the Hubbs-Sea World Research Institute, West Room, 2595 Ingraham Street, San Diego, CA 92109; telephone: (619) 226-3870.

Council address: Pacific Fishery Management Council, 7700 NE Ambassador Place, Suite 200, Portland, OR 97220-1384.

FOR FURTHER INFORMATION CONTACT: Mr. Dan Waldeck, Pacific Fishery Management Council, (503) 820-2280.

SUPPLEMENTARY INFORMATION: The primary purpose of the work session is to review the September 2002 draft fishery management plan (FMP) and develop recommendations to the Council. The FMP is scheduled for final Council action in November 2002.Although nonemergency issues not contained in the meeting agenda may come before the HMSPDT and HMSAS for discussion, those issues may not be the subject of formal HMSPDT or HMSAS action during this meeting. HMSPDT and HMSAS action will be restricted to those issues specifically listed in this document and any issues arising after publication of this document that require emergency action under section 305(c) of the Magnuson-Stevens Fishery Conservation and Management Act, provided the public has been notified of the HMSPDT's or HMSAS's intent to take final action to address the emergency.

Special Accommodations

In our continuing efforts to streamline our meeting notification process, we are building an email notification list. If you would like to be notified of future meetings via email, please contact Ms. Kerry Aden at (503) 820-2409 or kerry.aden@noaa.gov to provide your email address.

The meeting is physically accessible to people with disabilities. Requests for sign language interpretation or other auxiliary aids should be directed to Ms. Carolyn Porter at (503) 820-2280 at least 5 days prior to the meeting date.

Dated: September 25, 2002.
Richard W. Surdi,
Acting Director, Office of Sustainable Fisheries, National Marine Fisheries Service.

[FR Doc. 02-25076 Filed 10-1-02; 8:45 am]

BILLING CODE 3510-22-S